DEPARTMENT OF ENERGY

Federal Energy Regulatory Commission

[Docket Nos. EL08-88-000; ER08-1178-000; ER09-213-000]

California Independent System Operator Corporation; Supplemental Notice of Technical Conference

November 5, 2008.

On October 28, 2008, the Commission issued a Supplemental Notice (October 28, 2008 Notice) of a staff technical conference in the above-captioned proceedings. As stated in the October 28, 2008 Notice, the purpose of the technical conference is to further explore the justness and reasonableness of the California Independent System Operator Corporation's (CAISO) Exceptional Dispatch mechanism and proposed mitigation plan. The technical conference will be held on November 6, 2008, from 9 a.m. to 5 p.m., and November 7, 2008 from 9 a.m. to 12 p.m. (Eastern Time), in Hearing Room 1, at the Federal Energy Regulatory Commission, 888 First Street, NE., Washington, DC 20426.

The agenda for this conference is attached. If there are any changes, the revised agenda will be posted on the calendar page for this event on the Commission's Web site, http://www.ferc.gov. Please note that the timeframes are estimates, and if the schedule for November 6, 2008 is completed before 4 p.m., discussion will turn to issues scheduled for November 7, 2008.

Also, in an abundance of caution, the instant supplemental notice adds Docket No. ER09-213-000, California Independent System Operator Submits an Amendment to the Market Redesign and Technology Upgrade Tariff, as this filing concerns forbidden operating regions.

The technical conference will be open for the public to attend and advance registration is not required. The conference will be accessible via telephone on a listen-only basis for those parties who reserved a telephone line pursuant to the instructions provided in the October 28, 2008 Notice. Staff reiterates that, to the extent possible, individuals calling from the same location share a single telephone line.

All interested persons may file written comments following the technical conference on or before November 24, 2008. Reply comments will be due on or before December 2, 2008.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Sarah McKinley, 202-502-8368, sarah.mckinley@ferc.gov, for logistical issues, and Sarah Crawford, 202-502-8241, sarah.crawford@ferc.gov, or Saeed Farrokhpay, 916-294-0322, saeed.farrokhpay@ferc.gov, for other concerns.

Kimberly D. Bose,
Secretary.

[FR Doc. E8-26897 Filed 11-12-08; 8:45 am]

BILLING CODE 6717-01-P